DEPARTMENT OF JUSTICE

Civil Rights Division; Office of Special Counsel for Immigration Related Unfair Employment Practices, Immigration Related Employment Discrimination Public Education Grants

AGENCY: Office of Special Counsel for Immigration Related Unfair Employment Practices, Civil Rights Division, U.S. Department of Justice.

ACTION: Notice of availability of funds and solicitation for grant applications.

SUMMARY: The Office of Special Counsel for Immigration Related Unfair Employment Practices (OSC) announces the availability of funds for grants to conduct public education programs about the rights afforded potential victims of employment discrimination and the responsibilities of employers under the anti-discrimination provision of the Immigration and Nationality Act (INA), 8 U.S.C. 1324b. It is anticipated that a number of grants will be competitively awarded to applicants who can demonstrate a capacity to design and successfully implement public education campaigns to address immigration related unfair employment discrimination. Grants may range in size from $35,000 to $100,000. Applicants must demonstrate the ability to educate workers, employers and/or the general public about the anti-discrimination provision of the INA. OSC welcomes proposals from diverse public service groups, organizations or associations providing information services to employers and/or potential victims of discrimination, and faith-based organizations and nonprofit groups providing services and assistance to potential victims of discrimination.

DATES: Application Due Date: April 7, 2006.

FOR FURTHER INFORMATION CONTACT: Katherine A. Baldwin, Deputy Special Counsel, Office of Special Counsel for Immigration Related Unfair Employment Practices, 950 Pennsylvania Ave., Washington, DC 20530. Tel. (202) 616-5594, or (202) 616-5525 (TDD for the hearing impaired).

SUPPLEMENTARY INFORMATION: The Office of Special Counsel for Immigration Related Unfair Employment Practices of the Civil Rights Division of the Department of Justice announces the availability of funds to conduct cost effective public education programs concerning the anti-discrimination provision of the INA. Funds will be awarded to selected applicants who propose cost-effective ways of educating employers, workers covered by this statute, community service providers, and/or the general public.

Background: The Immigration and Nationality Act protects work authorized individuals from employment discrimination based on their citizenship status and/or national origin. Federal law also makes knowingly hiring unauthorized workers unlawful, and requires employers to verify the identity and employment eligibility of all new employees. Employers who violate this law are subject to sanctions, including fines and possible criminal prosecution. Employers of four or more employees are prohibited from discriminating on the basis of citizenship status or national origin with respect to hiring, firing, recruitment or referral for a fee. They are also prohibited from committing “document abuse” on the basis of national origin or citizenship status in the employment eligibility verification process. U.S. citizens and certain classes of work authorized individuals are protected from citizenship status discrimination. Protected non-citizens include:

• Legal Permanent Residents;

• Refugees;

• Asylees; and

• Temporary Residents.

Citizens and all work authorized individuals are protected from discrimination on the basis of national origin. However, under the INA the prohibition against national origin discrimination applies only to employers with four to fourteen employees. National origin discrimination complaints against employers with fifteen or more employees fall under the jurisdiction of the Equal Employment Opportunity Commission pursuant to Title VII of the Civil Rights Act of 1964, 42 U.S.C. 2000e, et seq. In addition, under the document abuse provision of the law, employers cannot request more or different documents than are required for completion of the Employment Eligibility Verification (I-9) Form, prefer or require one form of documentation over another, or refuse documents that appear reasonably genuine on their face, if made for the purpose or with the intent of discriminating against an individual on the basis of national origin or citizenship status. OSC is responsible for receiving and investigating discrimination charges and, when appropriate, filing complaints with specially designated administrative law judges. OSC also initiates independent investigations of possible immigration-related job discrimination. While OSC has established a record of vigorous enforcement, studies have shown that there is an extensive lack of knowledge on the part of protected individuals and employers about the anti-discrimination provision of the INA. Enforcement cannot be effective if potential victims of discrimination are not aware of their rights. Moreover, discrimination can never be eradicated so long as employers are not aware of their responsibilities.

Purpose: OSC seeks to educate both workers and employers about their rights and responsibilities under the anti-discrimination provision of the INA. Applicants must demonstrate the ability to use diverse forms of mass and electronic media to educate employers and/or employees in both the private and business sectors, as well as agencies providing services to potential victims concerning the anti-discrimination provision of the INA. OSC seeks proposals that will use existing materials or may develop additional materials to effectively educate employees and/or employers about exercising their rights or fulfilling their obligations under the anti-discrimination provision. OSC will consider any proposal that articulates and substantiates other creative means of reaching these populations. One example is the use of creative media public service announcements for local communities, non-profit organizations and business groups.

Program Description: The program is designed to develop and implement cost-effective approaches to educate potential victims of employment discrimination about their rights and to educate employers about their responsibilities under INA'propose to educate potential victims only, employers only, or both in a single campaign. Program budgets must include the travel, lodging and other expenses necessary for up to two program staff members to attend the mandatory OSC grantee training (2 days) that will be held in Washington, DC. Proposals should outline the following key elements of the program:

Part I: Intended Audience(s)

The educational efforts under the grant should be directed to: (1) Work authorized and protected non-citizens; (2) citizens at the risk of becoming victims of employment discrimination; and/or (3) employers, especially those in both large and small businesses and industries that employ large numbers of individuals in categories (1) and (2). The proposals should define the characteristics of the work authorized population or the employer group(s) intended to be the focus of the educational campaign. It must also identify the applicant's qualifications to reach credibly and effectively large segments of the intended audience(s). The proposals should detail the reasons for focusing on each group of protected individuals or employers by describing particular needs or other factors to support the selection. In defining the campaign focuses and supporting the reasons for the selection, applicants may use census data, studies, surveys, or any other sources of information of generally accepted reliability.

Part II: Campaign Strategy

We encourage applicants to devise effective and creative means of public education and information dissemination that are specifically designed to reach the widest possible intended audience. Those applicants proposing educational campaigns addressing potential victims of discrimination should keep in mind that some of the traditional methods of public communication may be less than optimal for educating members of national origin or linguistic groups that have limited community-based support and communication networks.

Grants are an important component of OSC partnerships to better serve the public, employers and potential discrimination victims. Grantees should plan to include OSC attorneys and other professional staff in public outreach programs in order to more successfully reach their audiences and prevent discrimination before it occurs or combat it where it exists. Proposals should discuss the components of the campaign strategy, detail the reasons supporting the choice of each component, and explain how each component will effectively contribute to the overall objective of cost-effective dissemination of useful and accurate information to a wide audience of protected individuals or employers. Discussions of the campaign strategies and supporting rationale should be clear, concise, and based on sound evidence and reasoning.

Budget proposals should include the costs for distribution of materials received from OSC or from current/past OSC grantees. To the extent that applicants believe the development of original materials particularly suited to their campaign is necessary, their proposal should articulate in detail the circumstances requiring the development of such materials. All such materials must be approved by OSC prior to production to ensure legal accuracy and proper emphasis. Proposed revisions/translations of OSC-approved materials must also be submitted for clearance. All information distributed should also identify OSC as a source of assistance, information and action, and include the correct address and telephone numbers of OSC (including the toll-free numbers and TDD numbers), and OSC e-mail and Internet addresses.

Part III: Evaluation of the Strategy

A full evaluation of a project's effectiveness is due within 60 days of the conclusion of a campaign. Interim evaluation/activity reports are due quarterly.

Selection Criteria: The selection of grantees for award will be made by the Office of Special Counsel for Immigration Related Unfair Employment Practices. A panel comprised of OSC staff will review and rate the applications and make recommendations regarding funding. The panel's results are advisory in nature and not binding. Letters of support, endorsement, or recommendation are not part of the grant application process and will not be considered. In determining which applications to recommend, OSC staff, based on a one hundred point scale will consider the following:

1. Program Design (50 points). Sound program design and cost-effective strategies for educating the intended population are imperative. Consequently, areas that will be closely examined include the following:

a. Demonstration of a clear understanding of the requirements of the anti-discrimination provision of the Immigration and Nationality Act and OSC's outreach goals. (10 points).

b. Clear statement of the proposed goals and objectives, including a listing of the major events, activities, products and timetables for completion and the extent of OSC participation in grantee outreach events. (10 points)

c. Selection and definition of the intended audience(s) for the campaign, and the factors that support the selection, including special needs, and the applicant's qualifications to reach effectively the intended audience(s). (10 points)

d. A cost-effective campaign strategy for educating employers and/or members of the protected class, with a justification for the choice of strategy. (10 points)

e. How the applicant proposes to measure the effectiveness and success of the education campaign. (10 points).

2. Administrative Capability (20 points). Proposals will be rated in terms of the capability of the applicant to define the intended audience, reach it, and implement the public education and evaluation components of the campaign:

a. Evidence of proven ability to provide high quality results in the public outreach program. (10 points)

b. Evidence that the applicant can implement the campaign. (10 points)

Note: OSC's experience during previous grant cycles has shown that a number of applicants choose to apply as a consortium of individual entities, or, if applying individually, propose the use of subcontractors to undertake certain limited functions. It is essential that these applicants demonstrate the proven management capability and experience to ensure that, as lead agency, they will be directly accountable for the successful implementation, completion, and evaluation of the project.

3. Staff Capability (10 points). Applications will be evaluated in terms of the degree to which:

a. The duties outlined in the proposed staffing plan for grant-funded positions appear appropriate to the work that will be conducted under the award. (5 points)

b. The qualifications of the grant-funded positions appear to match the requirements of these positions. (5 points)

Note: If the grant project manager or other member of the professional staff is to be hired later as part of the grant, or should there be any change in professional staff during the grant period, hiring is subject to review and approval by OSC at that time.

4. Service to Underserved Communities (20 points). OSC has determined a need to reach out to groups and communities previously underserved, or not served at all, by this grant program or by comparable service providers. This includes identifying employer and employee organizations, faith-based groups, non-profit groups, public service groups or other communities not previously served. It also includes identifying employers and employer organizations with whom the program has not previously interacted. This need is particularly relevant in light of recent world events which have raised the possibility of immigration-status discrimination for groups that may not have previously been subject to such conduct. Applicants should identify groups or communities served by their proposed program, which may be categorized as previously underserved. Applicants should consider the need for language services for limited English proficient (LEP) persons served or encountered when developing their proposals, including the proposed budget, and while conducting their programs and activities. The Department of Justice has determined that costs associated with providing meaningful access for LEP individuals are considered an allowable program cost.

Eligible Applicants: This grant competition is open to all applicants including labor and immigrant organizations, small and large businesses and associations, employer groups and associations, public services or community-based organizations, faith-based organizations, and state and local government agencies.

Faith-Based and Community Organizations. Consistent with President George W. Bush's Executive Order 13279, dated December 12, 2002, and 28 CFR Part 38, it is OSC policy that faith-based and community organizations that statutorily qualify as eligible applicants under OSC s program are invited and encouraged to apply for assistance awards to fund eligible grant activities. Faith-based and community organizations will be considered for awards on the same basis as any other eligible applicants and, if they receive assistance awards, will be treated on an equal basis with all other grantees in the administration of such awards. No eligible applicant or grantee will be discriminated for or against on the basis of its religious character or affiliation, religious name, or the religious composition of its board of directors or persons working in the organization. Faith-based organizations receiving grant awards retain their independence and do not lose or have to modify their religious identity (e.g., removing religious symbols) to receive awards. OSC grant funds, however, may not be used to fund any inherently religious activity, such as prayer or worship. Inherently religious activity is permissible, although it cannot occur during an activity funded with OSC grant funds; rather, such religious activity must be separate in time or place from the OSC funded program. Further, participation in such activity by individuals receiving services must be voluntary. Programs funded by OSC are not permitted to discriminate in the provision of services on the basis of a beneficiary's religion.

Grant Period and Award Amount: It is anticipated that several grants will be awarded and may range in size from $35,000 to $100,000. Publication of this announcement does not require OSC to award any specific number of grants, or to obligate all or any part of available funds. The period of performance will be twelve months from the date of the grant award.

Application Deadline: All applications must be postmarked by April 7, 2006. If using regular first class mail, send to: U.S. Department of Justice, Civil Rights Division, Office of Special Counsel for Immigration Related Unfair Employment Practices, 950 Pennsylvania Avenue, NW., Washington, DC 20530. If using messengers, overnight or priority mail—which OSC encourages due to delays in the delivery of regular mail—send to: Office of Special Counsel for Immigration Related Unfair Employment Practices, U.S. Department of Justice, 1425 New York Ave., NW., Suite 9000, Washington, DC 20005. Applications may not be submitted via facsimile machine.

Application Requirements: Applicants should submit an original and two (2) copies of their completed proposal by the deadline established above. In order to improve the statistical reporting of federal grants, the Office of Management and Budget has directed federal agencies to require all applicants to provide a Dun and Bradstreet Data Universal Numbering System (DUNS) number when applying for Federal grants or cooperative agreements. All grantees, contractors and potential applicants are encouraged to obtain a DUNS number and to assure that an accurate DUNS number is included in their application or proposal. If your organization does not have a DUNS number, you should take steps to obtain a DUNS number in advance of the application deadline. Organizations may receive a DUNS number at no cost by calling the dedicated toll-free DUNS Number request line at 1-866-705-5711 or by visiting the D&B Small Business Web site at http://smallbusiness.dnb.com/default.asp.

All submissions must contain the following items in the order listed below:

1. A completed and signed Application for Federal Assistance (Standard Form 424).

Note: The Catalog of Federal Domestic Assistance number is 16.110 and the title is Education & Enforcement of the Antidiscrimination provision of the Immigration and Nationality Act (box #10 of the SF 424).

2. OJP Form 4061/6 (Certification Regarding Lobbying; Debarment, Suspension and Other Responsibility Matters; and Drug-Free Workplace Requirements).

3. Disclosure Form to Report Lobbying (SF LLL).

4. OJP Form 4000/3 (Standard Assurances).

5. An abstract of the full proposal, not to exceed one page.

6. A program narrative of not more than fifteen (15) double-spaced typed pages that clearly and specifically demonstrates how the applicant meets each of the four (4) elements set forth as selection criteria, above.

7. A proposed budget outlining all direct and indirect costs for personnel, fringe benefits, travel, supplies, subcontracts, and a short narrative justification of each budgeted line item cost. If an indirect cost rate is used in the budget, then a copy of a current fully executed agreement between the applicant and the cognizant federal agency must accompany the budget.

Note: Program budgets must include the travel, lodging and other expenses necessary for not more than two program staff members to attend the mandatory OSC grantee training (2 days) that will be held in Washington, DC by the end of September 2006.

8. Copies of resumes of the professional staff proposed in the budget.

Application forms may be obtained by writing or telephoning: U.S. Department of Justice, Civil Rights Division, Office of Special Counsel for Immigration Related Unfair Employment Practices, 950 Pennsylvania Avenue, NW., Washington, DC 20530. Tel. (202) 616-5594, or (202) 616-5525 (TDD for the hearing impaired). This announcement and the required forms will also appear on the World Wide Web at: http://www.usdoj.gov/crt/osc. In order to facilitate handling, please do not use covers, binders or tabs.

Dated: February 16, 2006.
Katherine A. Baldwin,
Deputy Special Counsel for Immigration-Related Unfair Employment Practices.

[FR Doc. 06-1736 Filed 2-23-06; 8:45 am]

BILLING CODE 7020-02-P